DEPARTMENT OF TRANSPORTATION

Federal Aviation Administration

14 CFR Part 71

[Docket No. FAA-2025-2244; Airspace Docket No. 24-AWP-113]

RIN 2120-AA66

Establishment, Modification, and Revocation of Class E Airspace; Jacqueline Cochran Regional Airport, Palm Springs, CA

AGENCY: Federal Aviation Administration (FAA), DOT.

ACTION: Notice of proposed rulemaking (NPRM).

SUMMARY: This action proposes to establish Class E airspace area designated as an extension to a Class E surface area (Class E4 airspace area), modify Class E airspace area designated as a surface area (Class E2 airspace area), and revoke Class E airspace area extending upward from 700 feet or more above the surface (Class E5 airspace area) at Jacqueline Cochran Regional Airport (TRM), Palm Springs, CA. These actions support the safe and efficient management of instrument flight rules (IFR) and visual flight rules (VFR) operations at the airport. Additionally, the FAA proposes administrative revisions to TRM's legal descriptions of the controlled airspace areas associated with TRM's to ensure consistency within the FAA's aeronautical database.

DATES: Comments must be received on or before March 30, 2026.

ADDRESSES: Send comments identified by FAA Docket No. FAA-2025-2244 and Airspace Docket No. 24-AWP-113 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11K, Airspace Designations and Reporting Points, and subsequent amendments can be viewed online at www.faa.gov/air_traffic/publications/. You may also contact the Rules and Regulations Group, Office of Policy, Federal Aviation Administration, 600 Independence Avenue SW, Washington DC, 20591; telephone: (202) 267-8783.

FOR FURTHER INFORMATION CONTACT: Keith T. Adams, Federal Aviation Administration, Western Service Center, Operations Support Group, 2200 S 216th Street, Des Moines, WA 98198; telephone (206) 231-2428.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish, modify, and revoke Class E airspace to support IFR and VFR operations at Jacqueline Cochran Regional Airport, Palm Springs, CA.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the Northwest Mountain Regional Office of the Federal Aviation Administration, Air Traffic Organization, Western Service Center, Operations Support Group, 2200 S 216th Street, Des Moines, WA 98198.

Incorporation by Reference

Class E2, E4 and E5 airspace areas are published in paragraphs 6002, 6004, and 6005, respectively, of FAA Order JO 7400.11, Airspace Designations and Reporting Points, which is incorporated by reference in 14 CFR 71.1 on an annual basis. This document proposes to amend the current version of that order, FAA Order JO 7400.11K, dated August 8, 2025, and effective September 15, 2025. These updates would be published in the next update to FAA Order JO 7400.11. FAA Order JO 7400.11K, which lists Class A, B, C, D, and E airspace areas, air traffic service routes, and reporting points, is publicly available as listed in the ADDRESSES section of this document.

The Proposal

The FAA is proposing an amendment to 14 CFR part 71 that would establish a Class E4 airspace area, modify the Class E2 airspace area, and revoke the Class E5 airspace area at TRM, Palm Springs, CA.

The Very High Frequency Omnidirectional Range (VOR)-A approach procedure serving TRM has a final approach segment where IFR aircraft descend to 1,000 feet above the surface. This arrival point is located beyond two miles from the existing lateral boundaries of the Class E2 airspace area and is not currently contained within controlled airspace extending upward from the surface. In accordance with FAA airspace design criteria, a surface-based controlled airspace area for an airport should contain arriving aircraft descending to 1,000 feet above the surface. The FAA proposes establishing a Class E4 airspace area, designated as an extension to the Class E2 airspace area, to more appropriately contain the airport's arrival procedures. The proposed Class E4 airspace area would extend upward from the surface within 2.5 miles either side of TRM's 140° bearing, from the airport's 4.4-mile arc extending 7.1 miles southeast.

The existing Class E2 airspace area at TRM does not fully contain Category D aircraft conducting circling maneuvers. The authorized circling radius of 3.6 miles from each landing threshold point extends beyond the current 4.2-mile radius of the Class E2 airspace area. To more appropriately contain IFR aircraft within the surface-based controlled airspace area during circling operations, the FAA proposes to extend the Class E2 radius from 4.2 to 4.4 miles.

The Class E5 airspace area associated with TRM is no longer required. The Class E5 airspace area for Palm Springs International Airport, Palm Springs, CA fully encompasses the TRM Class E5 airspace area and would serve as the transitional airspace extending upward from 700 feet above the surface to facilitate the transition between the terminal and en-route air traffic environments. The Los Angeles En-Route Domestic airspace area would fulfill the role of transitional controlled airspace area extending upward from 1,200 feet above the surface, supporting the transition between the terminal and en-route air traffic environments.

Additionally, the FAA proposes several administrative updates to the TRM's airspace legal descriptions. The airport reference point should reflect the following geographical coordinates: lat. 33°37′36″ N, long. 116°09′35″ W, formerly lat. 33°37′35″ N, long. 116°09′39″ W. Lastly, the airport name should be changed from Thermal Airport, CA to Jacqueline Cochran Regional Airport, CA.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with the National Environmental Policy Act (NEPA), 42 U.S.C. 4321, et seq., prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 8, 2025, and effective September 15, 2025, is amended as follows:

Paragraph 6002 Class E Airspace Area Designated as a Surface Area.

* * * * *

AWP CA E2 Palm Springs, CA [Amended]

Jacqueline Cochran Regional Airport, CA

(Lat. 33°37′36″ N, Long. 116°09′35″ W)

That airspace extending upward from the surface within a 4.4-mile radius from the airport.

Paragraph 6004 Class E Airspace Designated as an Extension to a Class D or Class E Surface Area.

* * * * *

AWP CA E4 Palm Springs, CA [New]

Jacqueline Cochran Regional Airport, CA

(Lat. 33°37′36″ N, Long. 116°09′35″ W)

That airspace extending upward from the surface within 2.5 miles either side of the airport's 140° bearing from the airport's 4.4-mile arc extending 7.1 miles southeast.

* * * * *

Paragraph 6005 Class E Airspace Areas Extending Upward from 700 Feet or More Above the Surface of the Earth.

* * * * *

AWP CA E5 Thermal, CA [Removed]

Thermal VORTAC

(Lat. 33°37′41″ N, Long. 116°09′37″ W)

* * * * *

Issued in Des Moines, Washington, on February 11, 2026.
B.G. Chew,
Group Manager, Operations Support Group, Western Service Center.

[FR Doc. 2026-02986 Filed 2-12-26; 8:45 am]

BILLING CODE 4910-13-P